ENVIRONMENTAL PROTECTION AGENCY

[FRL OP-OFA-111]

Environmental Impact Statements; Notice of Availability

Responsible Agency: Office of Federal Activities, General Information 202-564-5632 or https://www.epa.gov/nepa.

Weekly receipt of Environmental Impact Statements (EIS)

Filed February 5, 2024 10 a.m. EST Through February 12, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240025, Draft, USAF, MA, Air National Guard F-15EX Eagle II and F-35A Lightning II Operational Beddowns, Comment Period Ends: 04/05/2024, Contact: Mr. Will Strickland 240-612-7042.

EIS No. 20240026, Final, FERC, WA, Goldendale Energy Storage Project, Review Period Ends: 03/18/2024, Contact: Office of External Affairs 866-208-3372.

EIS No. 20240027, Draft, NRC, SC, Site-Specific Environmental Impact Statement for Subsequent License Renewal of Oconee Nuclear Station, Units 1, 2, and 3 Second Renewal, Draft Report for Comment, Comment Period Ends: 04/01/2024, Contact: Lance Rakovan 301-415-2589.

EIS No. 20240028, Draft, USFS, CA, Social and Ecological Resilience Across the Landscape 2.0 (SERAL 2.0), Comment Period Ends: 04/01/2024, Contact: Benjamin Cossel 209-288-6261.

Amended Notice:

EIS No. 20240016, Final Supplement, FHWA, OR, Earthquake Ready Burnside Bridge, Contact: Thomas Parker 503-316-2549.

Correcting absence of supplemental text. Under 23 U.S.C. 139(n)(2), FHWA has issued a single document that consists of a final environmental impact statement and record of decision. Therefore, the 30-day wait/review period under NEPA does not apply to this action.

Dated: February 12, 2024.
Julie Smith,
Acting Director, NEPA Compliance Division, Office of Federal Activities.

[FR Doc. 2024-03248 Filed 2-15-24; 8:45 am]

BILLING CODE 6560-50-P